DEPARTMENT OF TRANSPORTATION

Maritime Administration

[Docket Number: MARAD-2002-11694]

Requested Administrative Waiver of the Coastwise Trade Laws

AGENCY: Maritime Administration, Department of Transportation.

ACTION: Invitation for public comments on a requested administrative waiver of the Coastwise Trade Laws for the vessel ESPRIT DU NORD.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR part 388 (65 FR 6905; February 11, 2000) that the issuance of the waiver will have an unduly adverse effect on a U.S.-vessel builder or a business that uses U.S.-flag vessels, a waiver will not be granted.

DATES: Submit comments on or before April 1, 2002.

ADDRESSES: Comments should refer to docket number MARAD-2002-11694. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW, Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested. Name of vessel: ESPRIT DU NORD. Owner: Charter Yachts North, LLC.

(2) Size, capacity and tonnage of vessel. According to the applicant: “Her breadth is 17.0 and her depth 7.5 feet * * * She displaces 29 gross tons, 26 net tons * * * ”

(3) Intended use for vessel, including geographic region of intended operation and trade. According to the applicant:

“* * * we intend to make the vessel available for hire for half-day, full day, weekend, or week long charters in the waters of the Southern California including the Channel Islands. Our business plan is to offer a high level of customer service to small groups/ families with a directed focus on eco-tourism, including whale watching, snorkeling, and SCUBA diving, etc. We would also make the vessel available for charitable functions, such as exposing disadvantaged or at-risk youth to the outdoors, sailing instruction, and the sea.”

(4) Date and Place of construction and (if applicable) rebuilding. Date of construction: 1995. Place of construction: Construction Navale Bordeaux, Bordeaux, France.

(5) A statement on the impact this waiver will have on other commercial passenger vessel operators. According to the applicant: “The effect a waiver would have on other local operators would be a net gain for other businesses through increased exposure. Comparable vessels in this area either do not offer a product similar to what we intend to offer, or they are established inspected vessels which do not normally transact with groups as small as six passengers. Any groups that we can not accommodate due to the vessel's status as an uninspected passenger vessel would promptly be referred to neighboring operators who can carry more passengers. Any exposure generated by Esprit Du Nord would only benefit other operators in the area.”

(6) A statement on the impact this waiver will have on U.S. shipyards. According to the applicant: “If a waiver is granted to allow ESPRIT DU NORD to trade in U.S. waters, local yards and marine contractors will benefit from the maintenance and repairs that the vessel will undoubtedly require.”

Dated: February 26, 2002.
By Order of the Maritime Administrator.
Joel C. Richard,
Secretary, Maritime Administration.

[FR Doc. 02-4949 Filed 2-28-02; 8:45 am]

BILLING CODE 4910-81-P